Proclamation 9346 of October 9, 2015

International Day of the Girl, 2015

By the President of the United States of America

A Proclamation

America has long stood as a beacon of equality and liberty for all. Safeguarding our founding ideals means ensuring we all have the opportunity to contribute to our shared progress and forge brighter futures. On International Day of the Girl, we are reminded that without the presence and participation of women and girls in our classrooms, workplaces, and communities, our Nation can never realize its full potential. As we observe this day, let us renew our commitment to building a world where all feel valued, safe, and empowered to pursue a future of equal promise.

In too many places, the stories of women and girls are not always told, and they are limited by laws and norms and subject to forces that lessen their range of possibility and the scope of their aspirations. The United States and our partners around the globe have made significant strides in advancing opportunities for women and girls and promoting full gender equality. My Administration remains dedicated to working with our international allies to protect the rights of all women and girls. We are working to expand access to quality education and are investing in programs to combat gender-based violence. Building on my challenge to the United Nations in September 2011, we established the Equal Futures Partnership, a multilateral effort that encourages countries to make commitments to women's political and economic empowerment.

Right now, more than 62 million girls around the world—half of whom are adolescent—are not in school and are therefore more vulnerable to HIV/AIDS, early or forced marriages, and violence. My Administration is responding with the utmost urgency, and that is why we launched the Let Girls Learn initiative, which brings together the Department of State, the United States Agency for International Development, the Peace Corps, and the Millennium Challenge Corporation, as well as other agencies and programs, like the President's Emergency Fund for AIDS Relief (PEPFAR), to address the range of challenges preventing adolescent girls from attending and completing school, and from realizing their potential as adults.

As we work to advance justice and equality abroad, we are also making it a priority to combat gender disparities here at home. Thanks to the Affordable Care Act, health insurers are now prohibited from charging women higher premiums than men simply because they are female, helping to make quality, affordable health care accessible for all our people. We are attracting and supporting girls in careers and educational pursuits related to sciences, technology, engineering, and mathematics—helping to build a highly-skilled, competitive workforce that draws on the talents of all Americans to drive our country's greatest innovations. We are also supporting women-owned businesses and entrepreneurs through over 100 Women's Business Centers across our country, and we are continuing the fight to ensure all women are paid equally and fairly for their work.

Women and girls cannot be fully free to pursue their highest potential until they are safe from hateful violence and assault. Twenty percent of American women have been sexually assaulted while in college. That is why, under the leadership of Vice President Joe Biden, we launched the 1is2many initiative to raise awareness of dating violence and sexual assault among young people. And we established the White House Task Force to Protect Students from Sexual Assault, as well as “It's On Us,” a campaign designed to combat sexual assault on college campuses so every student in America is able to pursue an education free from the fear of intimidation or violence.

This work must encompass all women and girls—regardless of who they are or what they look like. I am committed to lifting up the lives of women and girls of color, an intersectionality that is disproportionately represented in the foster care and juvenile justice systems, who are at greater risks of violence and are often more susceptible to becoming victim to commercial sex trafficking. We must continue to improve the odds for at-risk girls and ensure they are visible, valued, and have every opportunity to succeed.

Our society must also value all who identify as female. Too many transgender women and girls face discrimination, violence, and abuse. My Administration will continue working to break down barriers that hold transgender girls back, including school bullying, youth homelessness, and health inequality—because America is a place where all our girls should be free to live honest and open lives.

Every person deserves the opportunity to reach for his or her dreams, regardless of their sex or gender. This is an ideal that has carried our Nation forward for centuries, and we have an obligation to do everything in our power to address the injustices that remain throughout society. Today, we reaffirm our commitment to building a world where all girls are safe and empowered to pursue a future of limitless possibility.

NOW, THEREFORE, I, BARACK OBAMA, President of the United States of America, by virtue of the authority vested in me by the Constitution and the laws of the United States, do hereby proclaim October 11, 2015, as International Day of the Girl. I call upon the people of the United States to observe this day with programs, ceremonies, and activities that advance equality and opportunity for girls everywhere.

IN WITNESS WHEREOF, I have hereunto set my hand this ninth day of October, in the year of our Lord two thousand fifteen, and of the Independence of the United States of America the two hundred and fortieth.

[FR Doc. 2015-26585

Filed 10-16-15; 8:45 am]

Billing code 3295-F6-P